DEPARTMENT OF TRANSPORTATION

Federal Aviation Administration

14 CFR Part 39

[Docket No. FAA-2025-0486; Project Identifier MCAI-2025-00348-R; Amendment 39-23007; AD 2025-06-51]

RIN 2120-AA64

Airworthiness Directives; Bell Textron Canada Limited Helicopters

AGENCY: Federal Aviation Administration (FAA), DOT.

ACTION: Final rule; request for comments.

SUMMARY: The FAA is adopting a new airworthiness directive (AD) for certain Bell Textron Canada Limited (Bell) Model 505 helicopters. The FAA previously sent this AD as an emergency AD to all known U.S. owners and operators of these helicopters. This AD was prompted by deformation and/or improper pin engagement in the knuckles of the door hinge on the aft movable ballast box assembly. This AD requires removing all ballast weights from the aft movable ballast box assembly and prohibits the use of ballast weights within the aft movable ballast box assembly, as specified in a Transport Canada emergency AD, which is incorporated by reference. The FAA is issuing this AD to address the unsafe condition on these products.

DATES: This AD is effective April 25, 2025. Emergency AD 2025-06-51, issued on March 21, 2025, which contained the requirements of this amendment, was effective with actual notice.

The Director of the Federal Register approved the incorporation by reference of a certain publication listed in this AD as of April 25, 2025.

The FAA must receive comments on this AD by May 27, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0486; or in person at Docket Operations between 9 a.m. and 5 p.m., Monday through Friday, except Federal holidays. The AD docket contains this final rule, the mandatory continuing airworthiness information (MCAI), any comments received, and other information. The street address for Docket Operations is listed above.

Material Incorporated by Reference:

• For Transport Canada material identified in this AD, contact Transport Canada, Transport Canada National Aircraft Certification, 159 Cleopatra Drive, Nepean, Ontario K1A 0N5, Canada; phone: (888) 663-3639; email: TC.AirworthinessDirectives-Consignesdenavigabilite.TC@tc.gc.ca. You may view this material on the Transport Canada website at tc.canada.ca/en/aviation.

• You may view this material at the FAA, Office of the Regional Counsel, Southwest Region, 10101 Hillwood Parkway, Room 6N-321, Fort Worth, TX 76177. For information on the availability of this material at the FAA, call (817) 222-5110. It is also available at regulations.gov under Docket No. FAA-2025-0486.

FOR FURTHER INFORMATION CONTACT: Dan McCully, Aviation Safety Engineer, FAA, 1600 Stewart Avenue, Suite 410, Westbury, NY 11590; phone: (404) 474-5548; email: William.McCully@faa.gov.

SUPPLEMENTARY INFORMATION:

Comments Invited

The FAA invites you to send any written data, views, or arguments about this final rule. Send your comments to an address listed under the ADDRESSES section. Include “Docket No. FAA-2025-0486; Project Identifier MCAI-2025-00348-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dan McCully, Aviation Safety Engineer, FAA, 1600 Stewart Avenue, Suite 410, Westbury, NY 11590. Any commentary that the FAA receives that is not specifically designated as CBI will be placed in the public docket for this rulemaking.

Background

The FAA issued Emergency AD 2025-06-51, dated March 21, 2025 (the emergency AD), to address an unsafe condition on Bell Model 505 helicopters, serial numbers 65011 and subsequent with ballast kit part number (P/N) SLS-706-201-007 installed. The FAA sent the emergency AD to all known U.S. owners and operators of these helicopters. The emergency AD requires removing all ballast weights from the aft movable ballast box assembly, P/N SLS-706-201-007, and prohibits the use of ballast weights within the aft movable ballast box assembly.

The emergency AD was prompted by Emergency AD CF-2025-17, dated March 19, 2025 (Transport Canada Emergency AD CF-2025-17) (also referred to as “the MCAI”), issued by Transport Canada, which is the aviation authority for Canada. The MCAI states that Bell has discovered possible plastic deformation and/or improper pin engagement in the knuckles of the door hinge on the aft movable ballast box assembly, P/N SLS-706-201-007. Ballast weights escaping the ballast box have a high potential of striking the tail rotor assembly. The FAA is issuing this AD to prevent damage to and departure of tail rotor blades, loss of tail rotor thrust, and severe vibrations. Any of these conditions, if not addressed, will lead to loss of control of the helicopter.

You may examine the MCAI in the AD docket at regulations.gov under Docket No. FAA-2025-0486.

Material Incorporated by Reference Under 1 CFR Part 51

The FAA reviewed Transport Canada Emergency AD CF-2025-17, which specifies procedures for removing all ballast weights from the aft movable ballast box assembly, P/N SLS-706-201-007, and prohibits the use of ballast weights within the aft movable ballast box assembly.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI described above. The FAA is issuing this AD after determining that the unsafe condition described previously is likely to exist or develop on other products of the same type design.

AD Requirements

This AD requires accomplishing the actions specified in the MCAI, except for any differences identified as exceptions in the regulatory text of this AD.

Interim Action

The FAA considers that this AD is an interim action. Bell is developing inspection procedures intended to address the unsafe conditions. Once this inspection is developed, approved, and available, the FAA might consider additional rulemaking.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that required the immediate adoption of Emergency AD 2025-06-51 issued on March 21, 2025, to all known U.S. owners and operators of these helicopters. The FAA found that the risk to the flying public justified waiving notice and comment prior to adoption of this rule because ballast weights escaping the ballast box have a high potential of striking the tail rotor assembly, which could result in damage and/or departure of tail rotor blades, loss of tail rotor thrust, and severe vibrations; these conditions will result in loss of control of the helicopter. In addition, this AD requires removal of the ballast weights from the aft movable ballast box assembly before further flight. These conditions still exist, therefore, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 174 helicopters of U.S. registry. The FAA estimates the following costs to comply with this AD:

Estimated Costs of Required Actions
Action | Labor cost | Parts cost | Cost per product | Cost on U.S. operators
Inspection, weight removal | 0.5 work-hour × $85 per hour = $42.50 | $0 | $42.50 | $7,395

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-06-51 Bell Textron Canada Limited: Amendment 39-23007; Docket No. FAA-2025-0486; Project Identifier MCAI-2025-00348-R.

(a) Effective Date

The FAA issued emergency Airworthiness Directive (AD) 2025-06-51 on March 21, 2025, directly to affected owners and operators. As a result of such actual notice, the emergency AD was effective for those owners and operators on the date it was provided. This AD contains the same requirements as the emergency AD and, for those who did not receive actual notice, is effective on April 25, 2025.

(b) Affected ADs

None.

(c) Applicability

This AD applies to Bell Textron Canada Limited Model 505 helicopters, certificated in any category, as identified in Transport Canada Emergency AD CF-2025-17, dated March 19, 2025 (Transport Canada Emergency AD CF-2025-17).

(d) Subject

Joint Aircraft System Component (JASC) Code 2500, Equipment/furnishings.

(e) Unsafe Condition

This AD was prompted by deformation and/or improper pin engagement in the knuckles of the door hinge on the aft movable ballast box assembly, which could allow the ballast weights to escape the ballast box and strike the tail rotor assembly. The FAA is issuing this AD to prevent damage and/or departure of tail rotor blades, loss of tail rotor thrust, and severe vibrations. The unsafe condition, if not addressed, could result in loss of control of the helicopter.

(f) Compliance

Comply with this AD within the compliance times specified, unless already done.

(g) Requirements

Except as specified in paragraph (h) of this AD: Comply with all required actions and compliance times specified in, and in accordance with, Transport Canada Emergency AD CF-2025-17.

(h) Exception to Transport Canada Emergency AD CF-2025-17

Where Transport Canada Emergency AD CF-2025-17 refers to its effective date, this AD requires using the effective date of this AD.

(i) Special Flight Permits

Special flight permits are prohibited.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (k) of this AD and email to AMOC@faa.gov. Before using any approved AMOC, notify your appropriate principal inspector, or lacking a principal inspector, the manager of the responsible Flight Standards Office.

(2) Contacting the Manufacturer: For any requirement in this AD to obtain instructions from a manufacturer, those instructions must be accomplished using a method approved by the Manager, International Validation Branch, FAA; or Transport Canada; or Bell Textron Canada Limited's Transport Canada Design Approval Organization (DAO). If approved by the DAO, the approval must include the DAO-authorized signature.

(k) Additional Information

For more information about this AD, contact Dan McCully, Aviation Safety Engineer, FAA, 1600 Stewart Avenue, Suite 410, Westbury, NY 11590; phone: (404) 474-5548; email: William.McCully@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) Transport Canada Emergency AD CF-2025-17, dated March 19, 2025.

(ii) [Reserved]

(3) For Transport Canada material identified in this AD, contact Transport Canada, Transport Canada National Aircraft Certification, 159 Cleopatra Drive, Nepean, Ontario K1A 0N5, Canada; phone: (888) 663-3639; email: TC.AirworthinessDirectives-Consignesdenavigabilite.TC@tc.gc.ca. You may view this material on the Transport Canada website at tc.canada.ca/en/aviation.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on March 28, 2025.
Paul R. Bernado,
Acting Director, Compliance & Airworthiness Division, Aircraft Certification Service.

[FR Doc. 2025-06121 Filed 4-7-25; 11:15 am]

BILLING CODE 4910-13-P